DEPARTMENT OF THE INTERIOR

National Park Service

[N6325; NPS-WASO-NAGPRA-NPS0040515; PPWOCRADN0-PCU00RP14.R50000]

Notice of Inventory Completion: The University of Tennessee, Department of Anthropology, Knoxville, TN, and University of Kansas, Topeka, KS

AGENCY: National Park Service, Interior.

ACTION: Notice.

SUMMARY: In accordance with the Native American Graves Protection and Repatriation Act (NAGPRA), The University of Tennessee, Department of Anthropology (UTK) and the University of Kansas (KU) have completed an inventory of human remains and associated funerary objects and have determined that there is a cultural affiliation between the human remains and associated funerary objects and Indian Tribes or Native Hawaiian organizations in this notice.

DATES: Repatriation of the human remains and associated funerary objects in this notice may occur on or after August 27, 2025.

ADDRESSES: Send written requests for repatriation of the human remains and associated funerary objects in this notice to Dr. Ellen Lofaro, University of Tennessee, Office of Repatriation, 5723 Middlebrook Pike, Knoxville, TN 37996, email nagpra@utk.edu and Dr. Thomas Torma, University of Kansas, Office of Audit, Risk & Compliance, The University of Kansas, 1450 Jayhawk Boulevard, 351 Strong Hall Lawrence, KS 66045, email t-torma@ku.edu.

SUPPLEMENTARY INFORMATION: This notice is published as part of the National Park Service's administrative responsibilities under NAGPRA. The determinations in this notice are the sole responsibility of UTK and KU, and additional information on the determinations in this notice, including the results of consultation, can be found in its inventory or related records. The National Park Service is not responsible for the determinations in this notice.

Abstract of Information Available

Human remains representing, at least, five individuals have been identified. These individuals were removed from the Taylor Mound site, 14DP3, in Doniphan County, KS, during a field school led by Dr. Patricia O'Brien of Kansas State University in the summer of 1968. This site dates to the Middle Woodland period (circa BCE 350-400 CE). Ceramics were also found that showed continued usage of the site into the late prehistoric period (Central Plains Tradition), 1100-1350 CE. Based on a past pattern of practice, it is likely that William Bass brought these human remains with him from KU when he began working at UTK in 1971. The two lots of associated funerary objects are one lot of lithics and one lot of objects placed with or near human remains.

Human remains representing, at least, one individual have been identified. This individual was removed from the Kelley site, 14DP11, in Doniphan County, KS, between 1967 and 1968 during a field school taught jointly by Dr. Alfred E. Johnson at KU, Dr. O'Brien at Kansas State University, staff at Wichita State University, and staff at the University of Missouri. This site dates to the mid-late Woodland with a Valley Variant/Steed Kisker Phase component, circa 1000-1250 CE. Based on a past pattern of practice, it is likely that William Bass brought these human remains with him from KU when he began working at UTK in 1971. The one lot of associated funerary objects is one lot of objects placed with or near human remains.

To our knowledge, no potentially hazardous substances have been used to treat any of the Ancestral remains or associated funerary objects.

Cultural Affiliation

Based on the information available and the results of consultation, cultural affiliation is clearly identified by the information available about the human remains and associated funerary objects described in this notice. Cultural affiliation between the human remains and Indian Tribes listed in this notice was established via geographical, archaeological, Native American Traditional Knowledge/Expert Opinion, and oral history. Doniphan County, KS, is part of the aboriginal lands of Iowa Tribe of Kansas and Nebraska and Kaw Nation.

Determinations

UTK and KU have determined that:

• The human remains described in this notice represent the physical remains of six individuals of Native American ancestry.

• The three lots of objects described in this notice are reasonably believed to have been placed intentionally with or near individual human remains at the time of death or later as part of the death rite or ceremony.

• There is a connection between the human remains and associated funerary objects described in this notice and the Iowa Tribe of Kansas and Nebraska and the Kaw Nation, Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 27, 2025. If competing requests for repatriation are received, UTK and KU must determine the most appropriate requestor prior to repatriation. Requests for joint repatriation of the human remains and associated funerary objects are considered a single request and not competing requests. UTK and KU are responsible for sending a copy of this notice to the Indian Tribes and Native Hawaiian organizations identified in this notice.

Authority: Native American Graves Protection and Repatriation Act, 25 U.S.C. 3003, and the implementing regulations, 43 CFR 10.10.

Dated: July 1, 2025.
Melanie O'Brien,
Manager, National NAGPRA Program.

[FR Doc. 2025-14159 Filed 7-25-25; 8:45 am]

BILLING CODE 4312-52-P